DEPARTMENT OF EDUCATION

Notice of a Letter Regarding the Duke-UNC Consortium for Middle East Studies

AGENCY: Office of the General Counsel, Department of Education.

ACTION: Notice.

SUMMARY: The Department publishes a letter, dated August 29, 2019, notifying the University of North Carolina at Chapel Hill (“UNC”) of the Department's review of the Annual Project Reports (“APR”) submitted by the Duke-UNC Consortium for Middle East Studies (CMES) during the most recent and prior award periods, and the 2018 National Resource Center proposal.

FOR FURTHER INFORMATION CONTACT: Patrick Shaheen, U.S. Department of Education, Office of the General Counsel, 400 Maryland Ave. SW, room 6E300, Washington, DC 20202. Telephone: (202) 453-6339. Email: Patrick.Shaheen@ed.gov.

If you use a telecommunications device for the deaf (TDD) or a text telephone (TTY), call the Federal Relay Service, toll free, at 1-800-877-8339.

SUPPLEMENTARY INFORMATION: The Department publishes this letter, dated August 29, 2019, notifying the University of North Carolina Chapel Hill of the Department's review of the APR submitted by the Duke-UNC CMES during the most recent and prior award periods, and the 2018 National Resource Center proposal. The letter is in Appendix A of this notice.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Reed D. Rubinstein,
Principal Deputy General Counsel, Delegated the duties and authority of the General Counsel.

Appendix A—Letter to the University of North Carolina at Chapel Hill

August 29, 2019

Terry Magnuson, Ph.D.

Vice Chancellor for Research

The University of North Carolina at Chapel Hill Office of the Vice Chancellor for Research

312 South Building, Campus Box 4000 Chapel Hill, NC 27599-4000

Dear Dr. Magnuson:

Thank you for your letter of June 20, 2019, responding to the U.S. Department of Education's questions about the Duke-UNC Consortium for Middle East Studies (“Duke-UNC CMES”).

As you are aware, in Title VI of the Higher Education Act of 1965, as amended, Congress authorizes grants to protect the security, stability, and economic vitality of the United States by teaching American students the foreign languages and cultural competencies required to develop a pool of experts to meet our national needs. 20 U.S.C. 1021. The Secretary of Education may make Title VI grants to institutions of higher education or consortia of such institutions only for the purposes of establishing, strengthening, and operating comprehensive foreign language and area or international studies centers and programs, and of establishing, strengthening, and operating a diverse network of undergraduate foreign language and area or international studies centers and programs. 20 U.S.C. 11 22(a)(l)(A). Federal funding is conditioned on a demonstration that a given center or program is a “national resource” for teaching of any modem foreign language; for instruction in fields needed to provide full understanding of areas, regions, or countries in which such language is commonly used; for research and training in the international and foreign language aspects of professional and other fields of study; and for instruction and research on issues in world affairs that concern one or more countries. 20 U.S.C. 1122(a)(l)(B).

It is unlawful for institutions of higher education to use Title VI funds differently.

After reviewing your letter, the Annual Project Reports (“APR”) submitted by the Duke-UNC CMES during the most recent and prior award periods, and your 2018 National Resource Center proposal, the Department is concerned that most of the Duke-UNC CMES activities supported with Title VI funds are unauthorized and that Duke-UNC CMES may not qualify as an eligible National Resource Center. Among other things:

• You report that 6,791 students were enrolled in taxpayer-funded Middle East studies course but that only 960 students were enrolled in Middle East language courses. It is unclear whether this means 960 different people participated in foreign language instruction or if the total headcount in foreign language courses was 960, meaning that some students could have been counted more than once because most of your programs require students to complete three to eight semesters of foreign language. Similarly, you do not clarify how many of those students took three or more semesters of a given language or the level of language fluency they achieved.

• Your application asserts collaborations with other academic departments. However, these departments are not, for the most part, aligned with the requirement that National Resource Centers help students in science, technology, engineering, and mathematics fields achieve foreign language fluency. See 20 U.S.C. 1122(a)(2)(J).

• Many of the topics and titles listed under the area studies section of your prior APRs have little or no relevance to Title VI. For example, although Iranian art and film may be of subjects of deep intellectual interest and may provide insight regarding aspects of the people and culture of the Middle East, the sheer volume of such offerings highlights a fundamental misalignment between your choices and Title VI's mandates. Although a conference focused on “Love and Desire in Modem Iran” and one focused on Middle East film criticism may be relevant in academia, we do not see how these activities support the development of foreign language and international expertise for the benefit of U.S. national security and economic stability. Similarly, the link between the statutory goals and the academic papers referenced in your grant proposal, Amihri Hatun: Performance, Gender-Bending and Subversion in the Early Modern Ottoman Intellectual History, or Radical Love: Teachings from Islamic Mystical Tradition, is patently unclear. While the Duke-UNC CMES may certainly offer programs in Iranian art and film, these programs should not be funded or subsidized in any way by American taxpayers under Title VI unless you are able to clearly demonstrate that such programs are secondary to more rigorous coursework helping American students to become fluent Farsi speakers and to prepare for work in areas of national need.

• The Duke-UNC CMES appears to lack balance as it offers very few, if any, programs focused on the historic discrimination faced by, and current circumstances of, religious minorities in the Middle East, including Christians, Jews, Baha'is, Yadizis, Kurds, Druze, and others. Also, in your activities for elementary and secondary students and teachers, there is a considerable emphasis placed on the understanding the positive aspects of Islam, while there is an absolute absence of any similar focus on the positive aspects of Christianity, Judaism, or any other religion or belief system in the Middle East. This lack of balance of perspectives is troubling and strongly suggests that Duke-UNC CMES is not meeting legal requirement that National Resource Centers ”provide a full understanding of the areas, regions, or countries” in which the modern foreign language taught is commonly used. See 20 U.S.C. 1122(a)(l)(B)(ii) (emphasis added); 34 CFR 656.3(b)(1).

• It appears from your APRs that the Duke-UNC CMES offers very little serious instruction preparing individuals to understand the geopolitical challenges to U.S. national security and economic needs but quite a considerable emphasis on advancing ideological priorities. For example, the description of an activity described as a “conversation” with Dr. Rosemary Corbett is “Dr. Corbett traces the broader history of pressures placed on religious minorities in the last century to conform to dominant American frameworks for race, gender and political economy. These include the encouraging of community groups to provide social services to the dispossessed in compensation for the government's lack of welfare provisions in an aggressively capitalist environment.” Another activity called “Music on the Porch” describes an outdoor concert series as an international program focused on Islam, music, and social change. The featured artist, Marco Pave, is described as a “millennial Muslim from Memphis,” who conducts workshops around the country on hip-hop and social justice, and he advocates greater support for the arts.” It is hard to understand how these things are consistent with a National Resource Center and lawfully supported by taxpayer funds to ensure the “security, stability, and economic vitality of the United States in a complex global era[.]” 20 U.S.C. 1121(a)(l).

• The job placement results included in your grant proposal indicate that the Duke-UNC CEMS provides opportunities and support primarily for individuals to pursue academic careers rather than in government or business as Congress directs. That 35 percent of program graduates go to higher education positions and only 11 percent to government positions suggests that there are critical shortcomings and impermissible biases in the programming.

• The teacher-training activities hosted by the Duke-UNC CMES lack lawful focus on language development and instead advance narrow, particularized views of American social issues. For example, a teacher training seminar included in a prior APR is described as having provided an opportunity for teachers to explore “issues of multicultural education and equity to build a culture and climate of respect in the classroom. Educators dove deeper during interactive break-out sessions focused on unconscious bias, safe classrooms for all, using film for global education, why culture matters and working across cultures, serving LGBTIQ youth in schools, culture and the media, diverse books for the classroom and more.” There is a startling lack of focus on geography, geopolitical issues, history, and language of the area, as Congress required in Title VI.

The Department believes the Duke-UNC CMES has failed to carefully distinguish between activities lawfully funded under Title VI, and other activities, perhaps consistent with and protected by general principles of academic freedom, that are plainly unqualified for taxpayer support.

Furthermore, it seems clear foreign language instruction and area studies advancing the security and economic stability of the United States have taken “a back seat” to other priorities at the Duke-UNC CMES. Notably, most of the instructors of foreign language courses are nontenure track lecturers or teaching assistants, whereas most of the instructors of other courses are tenured faculty. Given the important role tenured faculty play in attracting students to foreign language instruction and majors and enabling students to overcome the difficulty of mastering a language, the lack of tenured foreign languages faculty relative to the number of tenured culture studies faculty, may signal a potentially serious misalignment between Title IV requirements and the Duke-UNC CMES's orientation and activities.

The Department will hold the Duke-UNC CMES accountable for ensuring all Title VI funded or subsidized activities directly reflect express Congressional mandates and purposes. Therefore, as a condition for future Title VI funding, the Duke-UNC CMES is directed to provide a revised schedule of activities that it plans to support for the coming year, including a description demonstrating how each activity promotes foreign language learning and advances the national security interests and economic stability of the United States. For example, cultural studies providing historical information about customs and practices in the Middle East and assisting students to understand and navigate the culture of another country, in concert with rigorous foreign language training, could help develop a pool of experts needed to protect U.S. national security and economic stability and therefore may well be within Title VI's ambit. To be clear, activities focusing on American culture or academic preferences that do not directly promote foreign language learning and advance the national security interests and economic stability of the United States are not to be funded under Title VI.

Also, the Duke-UNC CMES is required to demonstrate that it has prioritized foreign language instruction as required by law. More equal utilization of comparably credentialed faculty in foreign language instruction might prove to be an appropriate measure in this regard.

The Duke-UNC CMES is further required to provide the Department with a full list of courses in Middle East studies, including academic rank and employment status of each instructor who teaches each course.

Finally, the Duke-UNC CMES is further required to develop and implement effective institutional controls ensuring all future Title VI-funded activities directly promote foreign language learning and advance the national security interests and economic stability of the United States, thereby meeting statutory requirements and meriting taxpayer funding.

The Department must obligate the funds to continue support for the Duke-UNC CMES by no later than September 30, 2019. Consequently, it is critically important that you respond in writing to this letter with a preliminary plan and timetable for carrying out the above-specified compliance activities on or before September 22, 2019.

Sincerely,

Robert King

Assistant Secretary

Cc: Charles Kurzman, Ph.D., Professor, University of North Carolina at Chapel Hill

Kevin Guskiewicz, Interim Chancellor, University of North Carolina at Chapel Hill

Richard Stevens, Chair, University of North Carolina Board of Trustees

Vincent E. Price, President, Duke University

Jack 0. Bovender, Jr., Chair, Duke University Board of Trustees

[FR Doc. 2019-20067 Filed 9-16-19; 8:45 am]

BILLING CODE 4000-01-P